DEPARTMENT OF COMMERCE

National Oceanic and Atmospheric Administration

Notice of Availability of a Draft Environmental Assessment of a Proposed Boundary Expansion of the Guana Tolomato Matanzas National Estuarine Research Reserve

AGENCY: Office for Coastal Management, National Ocean Service, National Oceanic and Atmospheric Administration, U.S. Department of Commerce.

ACTION: Notice of availability of a draft environmental assessment; request for comments.

SUMMARY: The National Oceanic and Atmospheric Administration (NOAA) is soliciting comments from the public on a draft environmental assessment for a proposed boundary expansion of the Guana Tolomato Matanzas (GTM) National Estuarine Research Reserve.

DATES: Comments must be received no later than 30 days after publication of this notice.

ADDRESSES: The draft environmental assessment can be downloaded or viewed at https://coast.noaa.gov/czm/compliance/. You may submit comments via email to steph.robinson@noaa.gov. You may also submit comments or request a copy of the draft environmental assessment by mail addressed to Stephanie Robinson, Office for Coastal Management, 2234 South Hobson Ave., Charleston, SC 29405. Comments submitted by any other method or after the comment period may not be considered. All comments are a part of the public record and may be publicly accessible. Any personal identifying information (e.g., name, address) submitted voluntarily by the sender may also be accessible. NOAA will accept anonymous comments.

FOR FURTHER INFORMATION CONTACT: Stephanie Robinson at (843) 740-1174 and steph.robinson@noaa.gov, or Erica Seiden at (240) 533-0781 and erica.seiden@noaa.gov of NOAA's Office for Coastal Management.

SUPPLEMENTARY INFORMATION:

I. Background

The Florida Department of Environmental Protection, as lead agency for managing the GTM Reserve, has requested to modify the approved management boundary of the Reserve by adding three new parcels. Pursuant to 15 CFR 921.33(a), NOAA may require public notice, including notice in the Federal Register and an opportunity for public comment before approving a boundary or management plan change. In addition, changes in the boundary of a Reserve involving the acquisition of properties not listed in the management plan or final environmental impact statement (EIS) require public notice and the opportunity for comment. The Marsh View Preserve parcel was not evaluated in the Reserve's original EIS. Therefore, NOAA has developed an environmental assessment (EA) to analyze the effects of requested change to the Reserve boundary, which would result in a net increase in acreage of 3,346.44 acres, and is publishing notice of the EA's availability for public review and comment.

II. NOAA Proposed Action and Alternatives

NOAA is releasing a draft EA prepared in accordance with section 102(2)(C) of the National Environmental Policy Act (NEPA) of 1969, as amended, 42 U.S.C. 4332(2)(c), and the Council on Environmental Quality Regulations for Implementing the Procedural Provisions of NEPA (40 CFR 1500-1508). NOAA's proposed action would be to approve a change in the management boundary of the GTM Reserve to add three parcels to the approved boundary.

The draft EA identifies and assesses potential environmental impacts associated with the proposed project, and identifies a preferred alternative and a no action alternative. The preferred alternative would add three parcels to the Reserve's boundary. Although the preferred alternative would add three parcels outside the boundary originally designated for the Reserve, the addition of these three parcels would allow and enhance the Reserve's ability to: (1) Educate the community; (2) protect and manage the estuaries and their watersheds; (3) provide aquatic/upland management; and (4) research and monitor the area. The proposed boundary expansion is therefore preferred over the no action alternative.

Dated: July 5, 2019.
Nkolika Ndubisi,
Management and Program Analyst, National Ocean Service, National Oceanic and Atmospheric Administration.

[FR Doc. 2019-14713 Filed 7-9-19; 8:45 am]

BILLING CODE 3510-08-P